DEPARTMENT OF THE INTERIOR

National Park Service

[2253-65]

Notice of Intent To Repatriate Cultural Items: University of Pennsylvania Museum of Archaeology and Anthropology, Philadelphia, PA

AGENCY: National Park Service, Interior.

ACTION: Notice.

Notice is here given in accordance with the Native American Graves Protection and Repatriation Act (NAGPRA), 25 U.S.C. 3005, of the intent to repatriate cultural items in the possession of the University of Pennsylvania Museum of Archaeology and Anthropology, Philadelphia, PA, that meet the definitions of sacred objects and/or objects of cultural patrimony under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In this notice there are eight Tlingit objects that were purchased by Louis Shotridge, a Tlingit curator employed by the University of Pennsylvania Museum to conduct research and make museum collections. Tlingit objects affiliated with the Tlingit Kaagwaantaan Clan of Sitka, AK, are two helmets (catalog numbers NA8507 and 29-1-1) and three hats (catalog numbers NA6864, NA11741, and NA11742). The remaining three objects affiliated with the Tlingit L'ooknax.ádi Clan of Sitka, AK, are one helmet (catalog number NA8502) and two hats (catalog numbers NA10512 and NA10511).

The following five cultural objects are affiliated with the Tlingit Kaagwaantaan Clan of Sitka, AK, as indicated through museum records, and through evidence presented by the Central Council of Tlingit and Haida Indian Tribes of Alaska, a Federally-recognized Indian tribe, acting on behalf of the Kaagwaantaan Clan of Sitka, AK.

The first cultural item is a helmet called Wolf (NA8507). It is carved of wood and represents a wolf, and is painted with green, red, black, and white pigment. Natural wolf fur, ears and teeth make the helmet more realistic. Red cloth is added to the mouth to represent a tongue, and a white ermine skin is attached to the back of the helmet. The helmet measures approximately 38.5 cm long, 16.5 cm wide, and 16 cm high. In 1918, Louis Shotridge purchased the Wolf Helmet (NA8507) as part of a collection of five objects referred to as the “Eagle's Nest House Collection,” for $40.00 in Sitka, AK, for the collections of the University of Pennsylvania Museum.

The second cultural item is a hat called Ganook (NA6864). It is made of maple wood in the shape of a bird's face and beak, and painted with blue, red, and black pigment. Opercula shell is inlaid for teeth, and the helmet is also decorated with red and white hair. Four potlatch rings woven of split spruce roots are mounted on the top. The hat measures approximately 28 cm long, 27 cm wide, and 37 cm high. The old hat represents Ganook, a petrel, also known as the most ancient being in Tlingit mythology. In 1925, Louis Shotridge purchased the Ganook Hat (NA6864) for $450.00 from a Tlingit individual, Augustus Bean (Ke.t-xut'.tc), a housemaster of one of the three Wolf Houses of the Kaagwaantaan Clan of Sitka, AK, for the collections of the University of Pennsylvania Museum.

The third cultural item is a hat called Noble Killer (NA11741). It represents a whale and is carved from one piece of spruce wood, ornamented with abalone shell. The hat is intricately carved and painted with greenish-blue, red, and black pigment. A wooden piece projecting from the back represents the dorsal fin of the animal. Human hair is used as ornamentation on the fin. The hat measures approximately 36 cm long, 34 cm wide, and 27.5 cm high. Museum documentation indicates the Noble Killer Hat (NA11741) represents the maritime power of the Kaagwaantaan clan.

The fourth cultural item is a hat called Eagle (NA11742). It is carved, in one piece, from the root of the red cedar, and is painted with greenish-blue, red, black, and white pigment. The hat is decorated with coarse, grayish-brown human hair. Designs carved on the sides, some of which are inlaid with abalone shell, represent the wings. Designs on the front part of the hat represent the eagle's legs and talons. The hat measures approximately 33 cm long, 25.5 cm wide, and 26 cm high. The Eagle Hat represents the Eagle moiety of the Tlingit nation.

In 1926, Louis Shotridge purchased the Noble Killer (or Noble Killerwhale) Hat (NA11741) and the Eagle Hat (NA11742) from a Tlingit individual, Augustus Bean (Ke.t-xut'.tc), a housemaster for one of the three Wolf Houses of the Kaagwaantaan Clan of Sitka, AK. These two hats, together with a third hat, were acquired by Louis Shotridge for $800.00.

The fifth cultural item is a helmet called Shark (29-1-1). It is made of walrus hide, and has visible interior supports made of wood. The helmet is carved and painted with greenish-blue, red, and black pigment, and includes abalone shell eyes and mouth, and opercula shell teeth. The nose of the shark is covered by an arched frame made of carved and painted walrus hide, decorated with hair. The helmet measures approximately 38 cm long, 40.5 cm wide, and 48.5 cm high. According to museum documentation, it is an old object that is associated with the founding of the Kaagwaantaan clan. In 1929, Louis Shotridge purchased the Shark Helmet (29-1-1) for $350.00 from a Tlingit individual of the Kaagwaantaan clan for the collections of the University of Pennsylvania Museum.

Based on consultation, museum documentation, anthropological literature, and expert opinion, one cultural item is considered to be a sacred object (Wolf Helmet, NA8507), one is considered to be an object of cultural patrimony (Shark Helmet, 29-1-1), and three are considered to be both sacred objects and objects of cultural patrimony (Ganook Hat, NA6864; Noble Killer Hat, NA11741; Eagle Hat, NA11742).

The remaining three cultural objects are affiliated with the Tlingit L'ooknax.ádi Clan of Sitka, AK, as indicated through museum records, and through evidence presented by the Central Council of Tlingit and Haida Indian Tribes of Alaska, a Federally-recognized Indian tribe, acting on behalf of the Tlingit L'ooknax.ádi Clan of Sitka, AK.

The first cultural item affiliated with the L'ooknax.ádi Clan of Sitka, AK, is a helmet called Barbecuing Raven (NA8502). It is carved out of wood in the shape of a large raven with a wide flat tail, talons, and a second face underneath the raven's beak at the front. The wings are made of painted hide. The helmet is painted with blue-green, red, and black pigment and it is decorated with copper, and a few remaining remnants of puffin beaks. Two potlatch rings woven of split spruce roots are mounted on the top, decorated with a single ermine skin. The helmet measures approximately 49 cm long, 38 cm wide, and 30 cm high. In 1918, Louis Shotridge purchased the Barbecuing Raven Helmet (NA8502) as part of a collection of five objects, referred to as the “Sealion House Collection,” for $360.00, in Sitka, AK, for the collections of the University of Pennsylvania Museum.

The second cultural item is a hat called Whale (catalog number NA10512). It is a basketry hat, woven of spruce tree roots, which has been painted white. A design representing a whale with an open mouth is painted in black pigment. A carved wooden element secured to the top of the hat represents the whale's dorsal fin, and includes a face painted with blue-green, red, black and white pigment, abalone shell teeth and eyes, and human hair. The helmet measures approximately 39 cm long, 35 cm wide, and 36 cm high.

The third cultural item is a hat called Raven of the Roof (NA10511). It is carved and painted with blue-green, red, black and white pigment, and decorated with copper eyebrows, ears, and nose and human hair. Seven potlatch rings woven of split spruce roots are mounted on the top of the hat, with an ermine skin for decoration. The hat measures approximately 34 cm long, 31 cm wide, and 35 cm high.

In 1925, Louis Shotridge purchased the Whale Hat (NA10512) and the Raven of the Roof Hat (NA10511) as part of a collection of six objects, referred to as the “Sitka Whale House Collection,” for $640.00, in Sitka, AK, for the collections of the University of Pennsylvania Museum.

Based on consultation, museum documentation, anthropological literature, and expert opinion, two cultural items are considered to be objects of cultural patrimony (Barbecuing Raven Helmet, NA8502; Whale Hat, NA10512), and one is considered to be both a sacred object and object of cultural patrimony (Raven of the Roof Hat, NA10511). Therefore, of the eight Tlingit objects, one is a sacred object, three are objects of cultural patrimony, and four are both sacred objects and objects of cultural patrimony.

Officials of the University of Pennsylvania Museum of Archaeology and Anthropology have determined, pursuant to 25 U.S.C. 3001(3)(C), that five cultural items described above are specific ceremonial objects needed by traditional Native American religious leaders for the practice of traditional Native American religions by their present-day adherents. Officials of the University of Pennsylvania Museum of Archaeology and Anthropology have also determined, pursuant to 25 U.S.C. 3001(3)(D), that seven cultural items described above have ongoing historical, traditional, or cultural importance central to the Native American group or culture itself, rather than property owned by an individual. Lastly, officials of the University of Pennsylvania Museum of Archaeology and Anthropology have determined, pursuant to 25 U.S.C. 3001(2), that there is a relationship of shared group identity that can be reasonably traced between the sacred object, objects of cultural patrimony, and sacred objects/objects of cultural patrimony and the Central Council of Tlingit and Haida Indian Tribes of Alaska, a Federally-recognized Indian tribe, and the Tlingit Kaagwaantaan Clan of Sitka, AK, and the Tlingit L'ooknax.ádi Clan of Sitka, AK.

Representatives of any other Indian tribe that believes itself to be culturally affiliated with the sacred object, objects of cultural patrimony, and/or sacred objects/objects of cultural patrimony should contact Dr. Richard Hodges, Director, University of Pennsylvania Museum of Archaeology and Anthropology, 3260 South St., Philadelphia, PA 19104-6324, telephone (215) 898-4050, before March 18, 2011. Repatriation of the cultural items to the Central Council of Tlingit and Haida Indian Tribes of Alaska, a Federally-recognized Indian tribe, on behalf of the Tlingit Kaagwaantaan Clan of Sitka, AK, and L'ooknax.ádi Clan of Sitka, AK, may proceed after that date if no additional claimants come forward.

The University of Pennsylvania Museum of Archaeology and Anthropology is responsible for notifying the Central Council of Tlingit and Haida Indian Tribes of Alaska, a Federally-recognized Indian tribe, that this notice has been published.

Dated: February 11, 2011.
David Tarler,
Acting Manager, National NAGPRA Program.

[FR Doc. 2011-3520 Filed 2-15-11; 8:45 am]

BILLING CODE 4312-50-P